DEPARTMENT OF TRANSPORTATION

Federal Aviation Administration

Thirty Fifth RTCA SC-216 Aeronautical Systems Security Plenary

AGENCY: Federal Aviation Administration (FAA), U.S. Department of Transportation (DOT).

ACTION: Thirty Fifth RTCA SC-216 Aeronautical Systems Security Plenary.

SUMMARY: The FAA is issuing this notice to advise the public of a meeting of Thirty Fifth RTCA Meeting of Special Committee 216 Aeronautical Systems Security Plenary. SC-216 is a subcommittee to RTCA.

DATES: The meeting will be held September 12-14, 2017, 9:00 a.m.-5:00 p.m.

ADDRESSES: The meeting will be held at: RTCA Headquarters, 1150 18th Street NW., Suite 910, Washington, DC 20036.

FOR FURTHER INFORMATION, CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirty Fifth RTCA SC-216 Aeronautical Systems Security Plenary. The agenda will include the following:

September 12-14, 2017, 9:00 a.m.-5:00 p.m.

1. Welcome and Administrative Remarks

2. Introductions

3. Agenda Review

4. Meeting-Minutes Review

5. Review Joint Action List

6. Review DO-356A/ED-203A for Final Review and Comment (FRAC)/Open Consultation

7. Decision to Approve Release of DO-356A/ED-203A for FRAC/Open Consultation

8. Schedule Update

9. Date, Place and Time of Next Meeting

10. New Business

11. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 3, 2017.
Mohannad Dawoud,
Management & Program Analyst, Partnership Contracts Branch, ANG-A17, NextGen, Procurement Services Division, Federal Aviation Administration.

[FR Doc. 2017-16713 Filed 8-8-17; 8:45 am]

BILLING CODE 4910-13-P